ENVIRONMENTAL PROTECTION AGENCY

[FRL-9113-3]

Science Advisory Board Staff Office; Notification of a Public Teleconference of the Health Effects Subcommittee of the Advisory Council on Clean Air Compliance Analysis (Council)

AGENCY: Environmental Protection Agency (EPA).

ACTION: Notice.

SUMMARY: The Environmental Protection Agency (EPA) Science Advisory Board (SAB) Staff Office announces a public teleconference of the Health Effects Subcommittee (HES) of the Advisory Council on Clean Air Compliance Analysis (Council). The HES, supplemented with additional members from the Council, will discuss its draft peer review report on EPA's health benefits analyses and uncertainty analyses in the Second Section 812 Prospective Benefit-Cost Study of the Clean Air Act.

DATES: The public teleconference will be held on Tuesday, March 2, 2010 from 12:30 p.m. to 2 p.m. (Eastern Time).

ADDRESSES: The public teleconference will be conducted by telephone only.

FOR FURTHER INFORMATION CONTACT: Any member of the public who wants further information concerning the teleconference may contact Dr. Marc Rigas, Designated Federal Officer (DFO), EPA Science Advisory Board (1400F), U.S. Environmental Protection Agency, 1200 Pennsylvania Avenue, NW., Washington, DC 20460; via telephone/voice mail (202) 343-9978; fax (202) 233-0643; or e-mail at rigas.marc@epa.gov. General information concerning the Council can be found on the EPA Web site at http://www.epa.gov/council.

SUPPLEMENTARY INFORMATION: Pursuant to the Federal Advisory Committee Act, 5 U.S.C., App. 2 (FACA), notice is hereby given that the Health Effects Subcommittee (HES) of the Advisory Council on Clean Air Compliance Analysis (Council) will hold a public teleconference to discuss its peer review report to EPA. The Council was established in 1991 pursuant to the Clean Air Act (CAA) Amendments of 1990 (see 42 U.S.C. 7612) to provide advice, information and recommendations on technical and economic aspects of analyses and reports EPA prepares on the impacts of the CAA on the public health, economy, and environment of the United States. The Council is a Federal Advisory Committee chartered under FACA. The HES will provide advice through the Council and will comply with the provisions of FACA and all appropriate SAB Staff Office procedural policies.

Pursuant to Section 812 of the 1990 Clean Air Act Amendments, EPA conducts periodic studies to assess benefits and costs of the EPA's regulatory actions under the Clean Air Act. The Council has provided advice on an EPA retrospective study published in 1997 and an EPA prospective study completed in 1999. EPA initiated a second prospective study to evaluate the costs and benefits of EPA Clean Air programs for years 1990-2020.

The Council HES met on December 15-16, 2009 to review the health-related chapters and associated appendices of the EPA's Second Section 812 Prospective Analysis of the Clean Air Act [Federal Register Notice dated November 27, 2009 (74 FR 62307-62308). Materials from the December meeting are posted on the Council web site at http://yosemite.epa.gov/sab/sabproduct.nsf/MeetingCal/0E2E2DB24DAC1AA3852576230066C8E0?OpenDocument. The purpose of this upcoming teleconference is for the HES to discuss its draft report. The draft committee report will be submitted to the Council for its consideration and approval. Additional information about this advisory activity may be found on the Council Web site at http://www.epa.gov/advisorycouncilcaa. A meeting agenda and draft HES report will be posted at this Council Web site prior to the meeting.

Availability of Meeting Materials: A meeting agenda and materials in support of the teleconference will be placed on the Council Web site at http://www.epa.gov/advisorycouncilcaa in advance of the teleconference. For technical questions and information concerning EPA's draft benefits and uncertainty documents for the Second Section 812 Prospective Study, please contact Mr. Jim Democker at (202) 564-1673 or democker.jim@epa.gov.

Procedures for Providing Public Input: Interested members of the public may submit relevant written or oral information for consideration on the topics included in this advisory activity. Oral Statements: To be placed on the public speaker list for the March 2, 2010 teleconference, interested parties should notify Dr. Marc Rigas, DFO, by e-mail no later than February 25, 2010. Individuals making oral statements will be limited to three minutes per speaker. Written Statements: Written statements should be received in the SAB Staff Office by February 25, 2010 so that the information may be made available to the HES members for their consideration prior to this meeting. Written statements should be supplied to the DFO in the following formats: one hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Rigas at the phone number or e-mail address noted above, preferably at least ten days prior to the teleconference, to give EPA as much time as possible to process your request.

Dated: February 4, 2010.
Anthony F. Maciorowski,
Deputy Director, EPA Science Advisory Board Staff Office.

[FR Doc. 2010-2980 Filed 2-9-10; 8:45 am]

BILLING CODE 6560-50-P